SMALL BUSINESS ADMINISTRATION

[Declaration of Disaster #3398]

State of Ohio

Lorain County and the contiguous counties of Ashland, Cuyahoga, Erie, Huron, and Medina in the State of Ohio constitute a disaster area due to damages caused by a fire at the Fairway Manor Apartments on March 9, 2002. Applications for loans for physical damage as a result of this disaster may be filed until the close of business on May 20, 2002 and for economic injury until the close of business on December 21, 2002 at the address listed below or other locally announced locations: U.S. Small Business Administration, Disaster Area 2 Office, One Baltimore Place, Suite 300, Atlanta, GA 30308.

The interest rates are:

For Physical Damage

Homeowners With Credit Available Elsewhere—6.625%

Homeowners Without Credit Available Elsewhere—3.312%

Businesses With Credit Available Elsewhere—7.000%

Businesses and Non-Profit Organizations Without Credit Available Elsewhere—3.500%

Others (Including Non-Profit Organizations) With Credit Available Elsewhere—6.375%

For Economic Injury

Businesses and Small Agricultural Cooperatives Without Credit Available Elsewhere—3.500%

The number assigned to this disaster for physical damage is 339805, and for economic injury the number is 9O9600.

(Catalog of Federal Domestic Assistance Program Nos. 59002 and 59008.)

Dated: March 21, 2002.
Hector V. Barreto,
Administrator.

[FR Doc. 02-7642 Filed 3-28-02; 8:45 am]

BILLING CODE 8025-01-P